DEPARTMENT OF ENERGY

Federal Energy Regulatory Commission

[Docket No. EL01-118-000, et al.]

Avista Corporation, et al.; Electric Rate and Corporate Filings

April 27, 2004.

The following filings have been made with the Commission. The filings are listed in ascending order within each docket classification.

1. Avista Corporation d/b/a Avista Utilities

[Docket Nos. EL01-118-000, EL01-118-001, and ER99-1435-000]

Take notice that on April 22, 2004, Avista Corporation d/b/a Avista Utilities (Avista Utilities) tendered for filing a Code of Conduct for Voluntarily Submitting Electricity Transaction Data to Publications in compliance with the Commission's Policy Statement on Natural Gas and Electric Price Indices, Price Discovery in Natural Gas and Electric Markets, 104 FERC ¶ 61,121 (2003), as amended by Order Clarifying Prior Notice, 105 FERC 61, 277 (2003) (Policy Statement) in Commission order issued July 24, 2003, in Docket No. EL01-118-000, 001 and ER99-1435-000.

Comment Date: May 13, 2004.

2. Pilot Power Group, Inc.

[Docket No. ER01-1699-005]

Take notice that on April 21, 2004, Pilot Power Group, Inc. (Pilot) submitted for filing: (a) Its triennial market power analysis in compliance with the Commission Order issued in Docket No. ER01-1699-000 dated April 30, 2001; and (b) amendments to its market-based rate schedules approved in this docket, in compliance with the Commission's Order issued November 17, 2003, in Docket No. EL01-118-000 and 001, Amending Market-Based Rate Tariffs and Authorizations.

Comment Date: May 12, 2004.

3. Entergy-Koch Trading, LP

[Docket No. ER01-2781-005]

Take notice that on April 20, 2004, Entergy-Koch Trading, LP (EKT) filed a document informing the Commission of a non-material change in the characteristics that the Commission relied upon in granting EKT market-based rate authorization under section 205 of the Federal Power Act.

Comment Date: May 11, 2004.

4. Duke Energy Oakland, LLC

[Docket No. ER03-116-002]

Take notice that on April 22, 2004, Duke Energy Oakland, LLC (DEO) submitted a refund report to the Commission in response to the Commission's Order issued December 12, 2003, in Docket No. ER03-116-000.

Comment Date: May 13, 2004.

5. Pacific Gas and Electric Company

[Docket No. ER03-1115-003]

Take notice that on April 22, 2004, Pacific Gas and Electric Company (PG&E) submitted a revised Generator Special Facilities Agreement, Supplemental Letter Agreement, and Generator Interconnection Agreement, between PG&E and Elk Hills Power, LLC in response to, and in compliance with, the Commission's Order issued March 26, 2004, in Docket Nos. ER03-1115-001 and 002.

PG&E states that copies of this filing have been served upon Elk Hills, GWF Energy Company, LLC, Occidental Petroleum Corp, Sempra Energy, Preston Gates Ellis & Rouvelas Meeds LLP, the California Independent System Operator Corporation and the California Public Utilities Commission.

Comment Date: May 13, 2004.

6. South Carolina Electric & Gas Company

[Docket No. ER03-1398-003]

Take notice that on April 21, 2004, South Carolina Electric & Gas Company (SCE&G) filed with the Commission a revised Construction & Maintenance Agreement for Interconnection Facilities Between Columbia Energy LLC and SCE&G, in compliance with the Commission's March 22, 2004, Order in this proceeding. South Carolina Electric and Gas Company, 106 FERC ¶ 61,265 (2004). SCE&G has requested an effective date of November 15, 2003.

Comment Date: May 12, 2004.

7. Arizona Public Service Company

[Docket No. ER04-442-002]

Take notice that on April 22, 2004, Arizona Public Service Company (APS) tendered for filing APS' response to the Commission's Deficiency Letter in Docket No. ER04-442-002.

APS states a copy of this filing has been served on those parties that have intervened in this docket.

Comment Date: May 13, 2004.

8. El Paso Electric Company

[Docket No. ER04-448-001]

Take notice that on April 22, 2004, El Paso Electric Company (EPE), tendered for filing information to support proposed changes to its Open Access Transmission Tariff (OATT), FERC Electric Tariff Third Revised Volume No. 1. EPE states that the information supports proposed variations from the pro forma Large Generator Interconnection Procedures and Large Generator Interconnection Agreement filed by EPE on January 20, 2004, in accordance with Order No. 2003 and also that it submitted the information in response to a deficiency letter, dated April 9, 2004, from the Commission Staff requesting the information.

EPE states that copies of the information were served upon all parties that have either requested or been granted intervention in this proceeding.

Comment Date: May 13, 2004.

9. Devon Power LLC, Middletown, Power LLC, Montville Power LLC and NRG Power Marketing Inc.

[Docket Nos. ER04-464-003, ER04-23-006, and ER03-563-034 (Consolidated)]

Take notice that on April 21, 2004, Devon Power LLC, Middletown Power LLC, Montville Power LLC, (collectively Applicants) and NRG Power Marketing Inc., tendered for filing in compliance with the Commission's Order, issued March 22, 2004 in Docket Nos. ER04-464-000, et al., ER04-23-000, et al., and ER03-563-029 et al., revised reliability must run Agreements among each of the Applicants.

Applicants state that they have served a copy of this filing on ISO-NE and each person designated on the official service list.

Comment Date: May 12, 2004.

10. Tor Power, LLC

[Docket No. ER04-698-001]

Take notice that on April 20, 2004, Tor Power, LLC (Tor) filed with the Commission an errata to Attachment 1 second page of the Tor Power, LLC, FERC Electric Rate Schedule No. 1. that is attached to a Petition for Acceptance of Initial Rate Schedule, Waivers and Blanket Authority dated April 1, 2004.

Comment Date: May 11, 2004.

11. ISO New England Inc.

[Docket No. ER04-749-000]

Take notice that on April 20, 2004, ISO New England Inc. (ISO) made a filing under section 205 of the Federal Power Act to reflect changes to its Capital Funding Tariff. The ISO requests that the changes to the Capital Funding Tariff be allowed to go into effect on June 1, 2004.

ISO states that a copy of this filing has been mailed to: (1) Each current Transmission Customer under the NEPOOL Tariff that is not a Participant; and (2) the Governors and electric regulatory agencies of each of the States (as well as NEPUC and other regional organizations) located within the NEPOOL Control Area and in addition, the NEPOOL Participants are being provided electronic copies of the entire filing, via e-mail, through the Secretary of the NPC.

Comment Date: May 11, 2004.

12. Midwest Independent Transmission System Operator, Inc.

[Docket No. ER04-751-000]

Take notice that on April 21, 2004, Midwest Independent Transmission System Operator, Inc. (Midwest ISO) pursuant to section 205 of the Federal Power Act and Commission's regulations, 18 CFR 35.12 (2003), submitted for filing an Interconnection and Operating Agreement among Estill County Energy Partners, LLC, the Midwest ISO and Kentucky Utilities Company.

Midwest ISO states that a copy of this filing was served on all parties.

Comment Date: May 12, 2004.

13. Midwest Independent Transmission System Operator, Inc.

[Docket No. ER04-752-000]

Take notice that on April 21, 2004, Midwest Independent Transmission System Operator, Inc. (Midwest ISO) pursuant to section 205 of the Federal Power Act and Commission's regulations, 18 CFR 35.12 (2003), submitted for filing an Interconnection and Operating Agreement among the City of West Liberty, Iowa, the Midwest ISO and Interstate Power and Light Company, a wholly-owned subsidiary of Alliant Energy Corporation.

Midwest ISO states that a copy of this filing was served on all parties.

Comment Date: May 12, 2004.

14. Sulfur Springs Valley Electric Cooperative, Inc.

[Docket No. ER04-753-000]

Take notice that on April 22, 2004, Sulfur Springs Valley Electric Cooperative, Inc., (SSVEC), tendered for filing its initial rate filing. SSVEC states that it may become a FERC-jurisdictional public utility on April 22, 2004, by virtue of its repurchase of its outstanding U.S. Department of Agriculture Rural Utilities Service debt. SSVEC states that, in compliance with section 205 of the Federal Power Act (16 U.S.C. 824d), SSVEC is filing with the Commission all of its rates, terms and conditions for potentially jurisdictional service. SSVEC further requests that the Commission disclaim jurisdiction over such agreements.

SSVEC states that copies of this filing were served upon Arizona Electric Power Cooperative, Inc., Arizona Public Service Company, Graham County Electric Cooperative, Inc., and the Arizona Corporation Commission.

Comment Date: May 13, 2004.

15. American Transmission Company LLC

[Docket No. ER04-754-000]

Take notice that on April 22, 2004, the American Transmission Company LLC (ATCLLC) tendered for filing a Generation-Transmission Interconnection Agreement between ATCLLC and Wisconsin Public Service Corporation, as generating company. ARCLLC requests that the Commission grant any waivers of the Commission's regulations necessary to make this Amended and Restated Agreement effective on March 19, 2004.

Comment Date: May 13, 2004.

16. Southern California Edison Company

[Docket No. ER04-755-000]

Take notice, that on April 22, 2004, Southern California Edison Company (SCE) tendered for filing the Interconnection Facilities Agreement between SCE and the City of Corona, California (Corona). SCE requests the Interconnection Agreement and the Service Agreement become effective on April 23, 2004.

SCE states that copies of this filing were served upon the Public Utilities Commission of the State of California, and Corona.

Comment Date: May 13, 2004.

17. PJM Interconnection, L.L.C.

[Docket No. RT01-2-014]

Take notice that on April 21, 2004, PJM Interconnection, L.L.C. (PJM) tendered for filing proposed changes to Schedule 6 of the PJM Operating Agreement, (PJM's Regional Transmission Expansion Planning Protocol), and to Part IV of the PJM Open Access Transmission Tariff. PJM states that the proposed amendments are submitted to comply with the Commission's order in this proceeding dated October 24, 2003.

PJM states that copies of this filing have been served on all parties, as well as on all PJM Members and the state electric utility regulatory commissions in the PJM region.

Comment Date: May 12, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1030 Filed 5-5-04; 8:45 am]

BILLING CODE 6717-01-P